DEPARTMENT OF THE INTERIOR

National Park Service

Record of Decision/Statement of Findings: Issuance of Permits, Which Would Allow for Safety Improvements at the Provincetown Municipal Airport, Provincetown, MA

ACTION: Notice of approval of Record of Decision.

SUMMARY: Pursuant to subsection 102(2) of the National Environmental Policy Act of 1969, and the regulations promulgated by the Council on Environmental Quality (40 CFR 1505.2), the National Park Service, U.S. Department of the Interior has prepared a Record of Decision and Statement of Findings for Executive Orders 11988 (“Floodplain Management”) and 11990 (“Protection of Wetlands”).

DATES: The Record of Decision was recommended by the Superintendent of Cape Cod National Seashore, and approved by the Director of the Northeast Region on November 28, 2001. The Statement of Findings was also recommended by the Superintendent of Cape Cod National Seashore, certified for technical adequacy and servicewide consistency by both the Chief of the Water Resources Division and the Northeast Region Compliance Officer and approved by the Director of the Northeast Region on November 28, 2001.

ADDRESSES: Inquires regarding the Record of Decision or the Statement of Findings should be submitted to the Superintendent, Cape Cod National Seashore, 99 Marconi Site Road, Wellfleet, Massachusetts 02667. Telephone (508) 349-3785 or e-mail to CACO_Superintendent@NPS.Gov.

SUPPLEMENTARY INFORMATION: The summary of the Record of Decision/Statement of Findings follows:

The Department of the Interior, National Park Service (NPS) has prepared this Record of Decision (ROD)/Statement of Findings (SOF) concerning the issuance of special use permits, which would allow for safety improvements at the Provincetown Municipal Airport, Provincetown, Massachusetts. This ROD/SOF responds to and references the Final Environmental Impact Statement (FEIS), of April 7, 2000, for the Provincetown Municipal Airport, Provincetown, Massachusetts, and Department of Transportation Section 4(F) Statement as prepared by the Federal Aviation Administration (FAA). This ROD provides a statement of the decision made; a summary description of the alternatives analyzed by FAA in their FEIS; the decision rationale; identification of the environmentally preferable alternative; a description of mitigation measures; and a discussion of impairment.

The U.S. Department of the Interior owns the land under the airport. Two twenty-year Special Use Permits have been issued and/or updated to the Town of Provincetown, as of 6/01/98 and 6/19/98, to operate a municipal airport within a prescribed permit area boundary indicated in the NPS permit(s) for aviation operations. One covers the runway area and operational facilities and the other relates to navigational lighting and instrumentation facilities. Section 4(f) of the Department of Transportation Act of 1966 (recodified at 49 U.S.C. 303) requires “that the Secretary shall not approve any program or project which requires the use of any public park, recreation area, or wildlife and waterfowl refuge of national, state, or local significance as determined by the officials having jurisdiction thereof unless there is no feasible and prudent alternative to the use of such land and such program or project includes all possible planning to minimize harm resulting from the use.” The pending issuance of permits covered by this ROD for safety improvements necessitated an impact analysis of 4(f) land, as parkland beyond that currently permitted for the various airport purposes was requested by FAA. A Statement of Findings on wetland protection was also prepared to address wetland and floodplain impacts.

The FEIS for the Provincetown Municipal Airport was prepared by the FAA to cover their actions related to implementing the airport Master Plan. The NPS cooperated in the development of the FEIS by providing technical input and review/commentary on impact analysis. The Airport Master Plan is basic to FAA's procedures to develop an Airport Layout Plan that guides physical airport development and improvement such as alterations to runway safety areas, the apron area, and replacement of an approach light system.

A runway extension was evaluated in the FEIS on the basis of current development interests and currently feasible alternative considerations; however, funding for the project is not being approved at this time and further evaluation of this action will be pursued according to conditions outlined in a General Agreement prepared by the FAA and NPS, the essential text of which is presented in the FEIS. The inclusion of the runway extension in the FEIS and the Airport Layout Plan was for planning consideration only. Basically, the agreement between NPS and FAA states that when the FAA detects a need to further consider runway extension, the FAA will fully document the need and initiate re-evaluation of the several factors that affect the Federal decision making process for identifying and selecting the runway extension alternatives and the adequacy of the FAA ROD, by way of an Environmental Assessment (EA). Section 4(f) and Executive Order 11990 compliance for runway extension will be duly accomplished at that time. NPS decision-making on the runway extension is also deferred to that time.

Decision (Selected Action)

The National Park Service will adjust the parkland area permitted for airport use based only on the proposed actions related to the Runway Safety Area, parking aprons, and lighting system as described for safety improvements in the FEIS for the Provincetown Municipal Airport issued in April 2000 and the FAA's ROD, signed November 21, 2000. This will involve exchange and re-designation of the airport land use footprint, by returning two acres of previously permitted land, back to parkland use, and permitting 0.96 acres (incorrectly described in the FAA FEIS and FAA ROD as 0.69 acres) of parklands needed to serve navigational localizer relocation and its associated critical area use. The two acres of previously permitted parklands are being relinquished by FAA to revert to parkland uses, in compensation for the new acreage provided for the localizer. These two acres are located in a surficially undisturbed dune area which possess greater ecological value than the portion of land being exchanged, located between the eastern end of the runway and Race Point Road.

Dated: November 28, 2001.
Marie Rust,
Northeast Regional Director, National Park Service.

[FR Doc. 02-2286 Filed 1-30-02; 8:45 am]

BILLING CODE 4310-76-P